DEPARTMENT OF COMMERCE

National Oceanic and Atmospheric Administration

[I.D. 022207F]

Mid-Atlantic Fishery Management Council (MAFMC); Public Meeting

AGENCY: National Marine Fisheries Service (NMFS), National Oceanic and Atmospheric Administration (NOAA), Commerce.

ACTION: Notice of public meeting.

SUMMARY: The Mid-Atlantic Fishery Management Council's (Council) Squid, Mackerel and Butterfish Committee and Advisory Panel will hold a public meeting.

DATES: The meeting will be held on Wednesday, March 21, 2007, from 8 a.m. to 5 p.m.

ADDRESSES: The meeting will be held at the Congress Hall Hotel, 251 Beach Avenue, Cape May, NJ 08204 (telephone: 609-884-8421).

Council address: Mid-Atlantic Fishery Management Council; 300 S. New Street, Room 2115, Dover, DE 19904, telephone: (302) 674-2331.

FOR FURTHER INFORMATION CONTACT: Daniel T. Furlong, Executive Director, Mid-Atlantic Fishery Management Council; 300 S. New Street, Room 2115, Dover, DE 19904, telephone: (302) 674-2331, extension 19.

SUPPLEMENTARY INFORMATION: The purpose of this meeting is to discuss issues to be addressed in Amendment 11 to the Atlantic, Mackerel, Squid and Butterfish Fishery Management Plan. The primary focus of Amendment 11 will be the development of a limited or controlled access program for the Atlantic mackerel fishery. Other issues identified during scoping which may be discussed include the types of qualifying criteria that the Council should consider for a limited access program for the Atlantic mackerel fishery (including what levels of landings should be considered and what time period should be examined), whether and how the control date of July 5, 2002 should be utilized in establishing qualifying criteria, whether historical participants should be considered differently than newer more recent entrants in the fishery and if separate qualifying criteria should be developed for the directed and incidental catch fishery. Additional issues identified during scoping include the consideration of a trigger mechanism that would implement limited access in the mackerel fishery in the future, vessel upgrade provision, rules governing at sea processing and transfers at sea of Atlantic mackerel, and the degree to which overlap of limited access programs for Atlantic mackerel and herring should be considered. Technical issues which have arisen since scoping which may be discussed for inclusion in this amendment include possible revisions to the overfishing definition for Atlantic mackerel and the specification of allowable biological catch for the species.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to M. Jan Bryan at the Mid-Atlantic Council Office (302) 674-2331 extension 18 at least 5 days prior to the meeting date.

Dated: February 26, 2007.
Tracey L. Thompson,
Acting Director, Office of Sustainable Fisheries, National Marine Fisheries Service.

[FR Doc. E7-3552 Filed 2-28-07; 8:45 am]

BILLING CODE 3510-22-S